DEPARTMENT OF AGRICULTURE

Forest Service

Roadless Area Conservation; National Forest System Lands in Colorado

AGENCY: Forest Service, USDA.

ACTION: Notice of intent to prepare an environmental impact statement.

SUMMARY: The Forest Service, U.S. Department of Agriculture, is initiating a public rulemaking process to address the management of roadless areas on National Forest System lands within the State of Colorado. This rulemaking is the result of a petition submitted by Governor Bill Ritter on behalf of the State of Colorado pursuant to 7 CFR 1.28, reviewed and recommended by the Department's Roadless Area Conservation National Advisory Committee, and accepted by the Secretary. The State requests specific regulatory protections with certain management flexibility for the approximately four million acres of affected lands. The Forest Service will prepare an environmental impact statement to analyze and disclose potential environmental consequences associated with this rulemaking.

DATES: Comments concerning the scope of the analysis must be received by February 25, 2008.

ADDRESSES: Comments may be sent via e-mail to COcomments@fsroadless.org. Written comments concerning this notice should be addressed to Roadless Area Conservation-Colorado, P.O. Box 162909, Sacramento, CA 95816-2909, or via facsimile to 916-456-6724.

All comments, including names and addresses, when provided, are placed in the record and are available for public inspection and copying. The public may inspect comments received at http://www.roadless.fs.fed.us/colorado.

FOR FURTHER INFORMATION CONTACT: Kathy Kurtz, Colorado Roadless Interdisciplinary Team Leader, 303-275-5083, kkurtz@fs.fed.us.

Individuals who use telecommunication devices for the deaf (TDD) may call the Federal Information Relay Service (FIRS) at 1-800-877-8339 between 8 a.m. and 8 p.m., Eastern Time, Monday through Friday.

SUPPLEMENTARY INFORMATION:

Background

As a leader in natural resource conservation, the Forest Service provides direction for the management and use of the Nation's forests, rangeland, and aquatic ecosystems. Similarly, the State of Colorado is committed to intelligent, sustained natural resource use and conservation of State and Federal lands within its borders. Furthermore, the Forest Service is charged to collaborate cooperatively with States and other interested parties regarding the use and management of the National Forest System (NFS).

In May 2005, then-Governor Bill Owens signed Colorado Senate Bill 05-243, creating a 13-member bipartisan task force to provide official recommendations regarding the management of inventoried roadless areas in National Forests in the State of Colorado. The task force held nine public meetings throughout the State, reviewed over 40,000 public comments and conducted a comprehensive review of Colorado's approximately four million acres of inventoried roadless areas.

Colorado's petition was submitted to the Secretary of Agriculture for consideration on November 13, 2006, by then-Governor Owens, hereinafter referred to as the 2006 Petition, with the provision that it be considered under section 553(e) of the Administrative Procedure Act and Department regulations at 7 CFR 1.28. On April 11, 2007, Governor Ritter submitted the 2006 Petition with modifications, hereinafter referred to as the 2007 Petition. Governor Ritter's transmittal letter requested that State specific rulemaking be undertaken to provide an “insurance policy for protection of our roadless areas.”

The Roadless Area Conservation National Advisory Committee reviewed the Colorado petition on June 13 and 14, 2007, in Washington, DC. The Executive Director of the Colorado Department of Natural Resources, representing Governor Ritter, discussed the scope and intent of the petition during the first day of the meeting. The committee also heard comments from other State and Forest Service officials, task force members, and members of the public. On August 8, 2007, the committee issued a unanimous consensus-based recommendation that the Secretary direct the Forest Service, with the State of Colorado as a cooperating agency, to proceed with rulemaking.

On August 24, 2007, the Secretary accepted the 2007 Petition based on the Advisory Committee's review and report and directed the Forest Service to initiate rulemaking.

Additional information on how the State of Colorado petition was developed can be found in the State's petition at: http://www.keystone.org/html/roadless_areas_task_force.html.

Colorado's original 2006 Petition, Governor Ritter's 2007 Petition, a summary of the November 29 and 30, 2006, Advisory Committee meeting, the recommendation made by the Roadless Area Conservation National Advisory Committee to the Secretary, and the Secretary's letter to the Governor can be found at the Forest Service Roadless Area Conservation Web site: http://www.roadless.fs.fed.us/colorado.

Purpose and Need for Action

The purpose of the proposed rule is to review and consider the State of Colorado's 2007 Petition for rulemaking, which presents direction for the conservation and management of inventoried roadless areas within the State of Colorado. The proposed rule integrates local management concerns with the national objectives for protecting roadless area values and characteristics.

The Department of Agriculture and the State of Colorado are committed to conserving and managing inventoried roadless areas and consider these areas an important component of the National Forest System (NFS). The Department and the State of Colorado believe that the most viable path for lasting conservation of these areas must properly integrate local, State, and national perspectives on roadless area management. The 2007 Petition took into account State and local resource management challenges along with the national interest in maintaining roadless characteristics, and provides for management flexibility. Currently, the conservation and management of inventoried roadless areas is under the direction of the 2001 Roadless Rule, which was reinstated when the 2005 State Petitions Rule was invalidated in Cal. ex rel. Lockyer v. United States Dep't of Agric., 2006 U.S, Dist. LEXIS 72226, 52 (N. D. Cal. 2006). As litigation continues over the 2001 Roadless Rule, the State of Colorado desires to institute durable protections for inventoried roadless areas in the State. Therefore, there is a desire to establish a Colorado Roadless Rule to protect and manage the approximately four million acres of National Forest System inventoried roadless areas in Colorado, while working to accomplish the following goals (see 2007 Petition): (1) Conserve roadless area values and characteristics; (2) protect human health and safety; (3) reduce hazardous fuels; (4) restore essential wildlife habitats; (5) maintain existing facilities; and (6) provide reasonable access to public and private property or public and privately owned facilities.

Petitioned Action

The Forest Service, in cooperation with the State of Colorado, is initiating a public rulemaking process in response to the 2007 Petition presented by the Colorado Department of Natural Resources on behalf of Governor Ritter on June 13 and 14, 2007, to the Roadless Area Conservation National Advisory Committee.

The rulemaking, using the 2007 Petition with input from Roadless Area Conservation National Advisory Committee, would designate Colorado Roadless Areas to protect and manage these areas as described below.

This new designation, Colorado Roadless Areas, would supersede previous roadless inventories conducted under the Roadless Area Review Evaluation and the 2001 Roadless Rule. Colorado Roadless Areas would be identified using the 2001 Roadless Area Conservation Rule inventoried roadless areas as a basis, amended by technical corrections to the inventory as well as any revisions to an individual roadless area through revised Forest Plans (Arapaho/Roosevelt, Routt, Rio Grande, and White River) and ongoing Forest Plan Revision (Grand Mesa, Uncompahgre, and Gunnison NFs; San Juan NF; Pike/San Isabel NFs; and Manti-La Sal NFs). Lands located within ski permit area boundaries and/or adjacent to existing ski areas currently allocated to such uses by Forest Plan revisions would be removed from roadless designation and managed subject to forest plan direction. Maps may be found at http://www.roadless.fs.fed.us/colorado.

The rulemaking would examine the 2007 Petition's specific proposal to prohibit road construction or reconstruction in Colorado Roadless Areas unless the responsible official determines the proposal cannot be reasonably accomplished without a road, there are no other reasonable alternatives, and one of the listed circumstances exists. The 2007 Petition sought to have the Forest Service, to the extent practicable, emphasize the use of temporary roads and where a temporary road is specified in the listed circumstance, only a temporary road is allowed. Further, the Forest Service would prepare an Environmental Impact Statement (EIS) whenever proposing construction of a permanent road in designated Colorado Roadless Areas. No-road and temporary road alternatives would be part of such an EIS. Except for Federal Aid Highway projects, these roads would be closed to all motorized vehicles not specifically used for the purpose of the access. The circumstances for road construction are as follows:

a. To conduct a response action under the Comprehensive Environmental Response, Compensation, and Liability Act (CERCLA) or to conduct a natural resource restoration action under CERCLA;

b. Pursuant to reserved or outstanding rights, or by statute or treaty;

c. To provide access to existing or future grazing allotments, where roading is consistent with the Forest Plan in question;

d. For a Federal Aid Highway project;

e. To allow for construction of, maintenance of, and emergency response to utility and water conveyance structures, where roading is consistent with the Forest Plan in question.

f. A temporary road is needed for treatment actions in areas identified in a community wildfire protection plan or within areas of the wildland-urban interface, as defined by the Healthy Forests Restoration Act of 2003 (HFRA);

g. A temporary road is needed for public health or safety in cases of threat of flood, fire, or other potential catastrophic event that, without intervention, would cause loss of life, property, or natural resource values;

h. A temporary road is needed in conjunction with the continuation, extension, or renewal of a mineral lease; or

i. A temporary road is needed to support the leasing of federal coal reserves under certain lands in the North Fork Valley on the Grand Mesa, Uncompahgre and Gunnison National Forests.

Any temporary road would be obliterated and reclaimed and the affected landscape restored immediately upon termination of the purpose for the road. Roadless areas in which temporary roads are allowed, built, and obliterated would not lose their roadless inventory status.

The 2007 Petition also provided two other circumstances under which road re-construction may be allowed in a Colorado Roadless Area: (1) When road realignment is needed to prevent irreparable resource damage from the original design, use, location, or deterioration of a forest road; or (2) when road reconstruction is needed to implement a road safety project based on local knowledge of a forest road or accident history.

The 2007 Petition specifically proposes to prohibit the cutting, selling or removal of timber from a Colorado Roadless Area unless the responsible official determines that the action falls within one of the following circumstances:

a. Is needed for wildlife habitat management and improvement for wildlife species, in consultation with Colorado Department of Natural Resources and Division of Wildlife, while maintaining or improving roadless characteristics as defined in the 2007 Petition;

b. Is needed to reduce the risk of wildfire effects or large scale insect and disease outbreak effects in areas covered by and as provided in a community wildfire protection plan, or if a protection plan is not present within areas of the wildland urban interface (WUI), as defined in the HFRA;

c. Is incidental to the implementation of a management activity not otherwise prohibited by the Rule;

d. Is needed and appropriate for personal or administrative use; or

e. Roadless characteristics have been substantially altered in a portion of a roadless area due to the construction of a forest road and subsequent timber harvest—which occurred after the roadless area was designated and prior to the effective date of this rule.

The 2007 Petition did not seek to impose limitations on reasonable access to valid and existing rights and authorizations including reasonable access to locatable minerals as allowed under the General Mining Law of 1872 and the ability of the Colorado State Land Board to develop its mineral interest underlying certain Forest Service surface ownership. The Forest Service would emphasize exchange of State mineral interests for Federal interests of comparable value.

The 2007 Petition indicated that it did not seek to affect certain other policies or activities including current or future management status of existing roads or trails in Colorado Roadless Areas or the status of existing grazing allotments. Existing Forest roads within Colorado Roadless Areas would continue to be maintained. Current forms of mechanized access would continue for permits, contracts, or other legal instruments authorizing the occupancy and use of NFS lands that were issued prior to the effective date of the Rule.

The 2007 Petition also stated that the Colorado specific rule would provide for the adjustment of Colorado Roadless Area boundaries as applicable when forests are amending or revising their Forest Plans.

Further, the 2007 Petition provided that no new roads would be constructed in Colorado Roadless Areas for exploration, development or transportation purposes relating to oil and gas leases issued after the date of implementation of the Rule.

The 2007 Petition also contained specific provisions concerning the leasing of federal coal reserves under certain lands in the North Fork Valley on the Grand Mesa/ Uncompahgre/Gunnison National Forests (GMUG). These lands would remain as Colorado Roadless Areas, but would be managed in a way that permits roads and other activities associated with coal exploration and development. Once coal mining is complete, all roads would be reclaimed and restored to natural conditions and all activities within the area would be consistent with Roadless designation.

The 2007 Petition did not address inventoried roadless acres in national forests and grasslands outside of Colorado. The 2007 Petition did not address travel management or wilderness recommendations.

Possible Alternatives to the Proposed Action

Possible alternatives to the promulgation of a rule pursuant to the 2007 Petition to be considered in the Draft Environmental Impact Statement (DEIS) include:

• Roadless management direction as set forth in the 2001 Roadless Rule.

• Roadless management direction as set forth in current Land and Resource Management Plans.

Additional alternatives may arise from public comments or new information.

Cooperating Agencies

The State of Colorado will participate as a cooperating agency in the preparation of the DEIS.

The State has requested that the Department of Natural Resources and the Division of Wildlife be provided cooperating agency status through a Memorandum of Understanding (MOU) with the Forest Service to assure participation in the evaluation of proposed activities in Colorado Roadless Areas associated with Federal coal reserves under certain lands in the North Fork Valley on the Grand Mesa/Uncompahgre/Gunnison National Forests (GMUG) and lands removed from the roadless inventory associated with ski areas.

Responsible Official

The Responsible Official for the rulemaking is the Secretary, USDA, or his designee.

Nature of Decision To Be Made

The Responsible Official, with concurrence of the State of Colorado, will select a management strategy to address the management of roadless areas on National Forest System Lands within the State of Colorado.

Scoping Process

As part of its scoping process, the Forest Service solicits public comment on the nature and scope of the environmental, social, and economic issues related to the rulemaking that should be analyzed in depth in the Draft Environmental Impact Statement. Comments collected during promulgation of the 2001 Roadless Rule and the extensive public involvement process used by the State and Task Force to craft their petition will be heavily relied upon. The nature and scope of the analysis for the Draft Environmental Impact Statement will focus on the land management direction sought in the petition, and the alternatives to it.

Because of the extensive amount of public comment that has already been received on the issue of protecting roadless areas in Colorado, no public meetings are planned for this 60-day scoping effort. However, public meetings will be held after the Draft Environmental Impact Statement and proposed rule have been released, and the public has had a chance to take a careful look at the State site-specific proposed rule, alternatives, and effects.

Comment Requested

Reviewers should provide their comments during the comment period. Timely comments will enable the agency to analyze and respond to them at one time and to use them in the preparation of the Environmental Impact Statement, thus avoiding undue delay in the decision making process. The submission of specific and substantive comments usually results in more effective use of public input and often results in better decisions. As a reminder, reviewers have an obligation to “structure their participation in the National Environmental Policy Act process so that it is meaningful and alerts the agency to the reviewer's position and contentions.” Vermont Yankee Nuclear Power Corp. v. NRDC, 435 U.S. 519, 552 (1978). Dept. of Transportation v. Public Citizen, 541 U.S. 752, 764 (2004).

Estimated Dates

The draft environmental impact statement is expected May, 2008, and the final environmental impact statement is expected December, 2008.

Dated: December 18, 2007.
Gloria Manning,
Associate Deputy Chief, NFS.

[FR Doc. E7-24894 Filed 12-21-07; 8:45 am]

BILLING CODE 3410-11-P